DEPARTMENT OF COMMERCE

International Trade Administration

[A-570-848]

Freshwater Crawfish Tail Meat From the People's Republic of China: Initiation of Antidumping Duty New Shipper Review

AGENCY: Enforcement and Compliance, International Trade Administration, Department of Commerce.

DATES: Effective October 31, 2016.

SUMMARY: Based on a request, the Department of Commerce (the Department) is initiating a new shipper review (NSR) of the antidumping duty order on freshwater crawfish tail meat from the People's Republic of China (PRC) with respect to Jingzhou Tianhe Aquatic Products Co., Ltd. (Jingzhou Tianhe). We have determined that this request meets the statutory and regulatory requirements for initiation.

FOR FURTHER INFORMATION CONTACT: Dmitry Vladimirov, AD/CVD Operations Office I, Enforcement and Compliance, International Trade Administration, U.S. Department of Commerce, 1401 Constitution Avenue NW., Washington, DC 20230; Telephone: (202) 482-0665.

SUPPLEMENTARY INFORMATION:

Background

The antidumping duty order on freshwater crawfish tail meat from the PRC published in the Federal Register on September 15, 1997.¹ Pursuant to section 751(a)(2)(B)(i) of the Tariff Act of 1930, as amended (the Act), the Department received a timely and properly filed request for a NSR of the order from Jingzhou Tianhe during the anniversary month of the antidumping duty order.² In its request, Jingzhou Tianhe certified that it is both the producer and exporter of the subject merchandise upon which the request was based.³

¹ See Notice of Amendment to Final Determination of Sales at Less Than Fair Value and Antidumping Duty Order: Freshwater Crawfish Tail Meat From the People's Republic of China, 62 FR 48218 (September 15, 1997) (Crawfish Order).

² See Letter from Jingzhou Tianhe, “RE: Freshwater Crawfish Tail meat From the People's Republic of China; Request for New Shipper Review,” dated September 30, 2016.

³ Id., at 2.

Pursuant to section 751(a)(2)(B)(i)(I) of the Act and 19 CFR 351.214(b)(2)(i), Jingzhou Tianhe certified that it did not export subject merchandise to the United States during the period of investigation (POI).⁴ In addition, pursuant to section 751(a)(2)(B)(i)(II) of the Act and 19 CFR 351.214(b)(2)(iii)(A), Jingzhou Tianhe certified that, since the initiation of the investigation, it has never been affiliated with any exporter or producer who exported subject merchandise to the United States during the POI, including those respondents not individually examined during the POI.⁵ As required by 19 CFR 351.214(b)(2)(iii)(B), Jingzhou Tianhe also certified that its export activities were not controlled by the government of the PRC.⁶

⁴ Id., at Attachment 1.

⁵ Id.

⁶ Id.

In addition to the certifications described above, pursuant to 19 CFR 351.214(b)(2), Jingzhou Tianhe submitted documentation establishing the following: (1) The date on which it first shipped subject merchandise for export to the United States; (2) the volume of its first shipment; and (3) the date of its first sale to an unaffiliated customer in the United States.⁷

⁷ Id., at Attachment 2; see also Jingzhou Tianhe's October 14, 2016, response to the Department's request for additional information, dated October 3, 2016.

Period of Review

In accordance with 19 CFR 351.214(g)(1)(i)(A), the period of review (POR) for a NSR initiated in the month immediately following the anniversary month will be the twelve-month period immediately preceding the anniversary month. Therefore, the POR for this NSR is September 1, 2015, through August 31, 2016.

Initiation of New Shipper Review

Pursuant to section 751(a)(2)(B) of the Act and 19 CFR 351.214(b), we find that the request from Jingzhou Tianhe meets the threshold requirements for initiation of a NSR for shipments of freshwater crawfish tail meat from the PRC produced and exported by Jingzhou Tianhe.⁸

⁸ See the memorandum to the file entitled, “Freshwater Crawfish Tail Meat From the People's Republic of China: Initiation Checklist for Antidumping Duty New Shipper Review of Jingzhou Tianhe Aquatic Products Co., Ltd.,” dated concurrently with this notice.

On February 24, 2016, the President signed into law the “Trade Facilitation and Trade Enforcement Act of 2015,” H.R. 644, which made several amendments to section 751(a)(2)(B) of the Act. We will conduct this NSR in accordance with section 751(a)(2)(B) of the Act, as amended by the Trade Facilitation and Trade Enforcement Act of 2015.⁹

⁹ Notably, the Trade Facilitation and Trade Enforcement Act of 2015 removed from section 751(a)(2)(B) of the Act the provision directing the Department to instruct U.S. Customs and Border Protection (CBP) to allow an importer the option of posting a bond or security in lien of a cash deposit during the pendency of an NSR.

Unless extended, the Department intends to issue the preliminary results of this NSR no later than 180 days from the date of initiation and final results of the review no later than 90 days after the date the preliminary results are issued.¹⁰

¹⁰ See section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Jingzhou Tianhe which will include a section requesting information concerning its eligibility for a separate rate. We will rescind the NSR of Jingzhou Tianhe if we determine that Jingzhou Tianhe has not demonstrated that it is eligible for a separate rate.

Because Jingzhou Tianhe certified that it produced and exported subject merchandise, the sale of which is the basis for the request for a NSR, we will instruct CBP to continue to suspend liquidation of all entries of subject merchandise produced and exported by Jingzhou Tianhe.

To assist in its analysis of the bona fides of Jingzhou Tianhe's sales, upon initiation of this NSR, the Department will require Jingzhou Tianhe to submit on an ongoing basis complete transaction information concerning any sales of subject merchandise to the United States that were made subsequent to the POR.

Interested parties requiring access to proprietary information in the NSR should submit applications for disclosure under administrative protective order, in accordance with 19 CFR 351.305 and 351.306.

This initiation and notice are published in accordance with section 751(a)(2)(B) of the Act and 19 CFR 351.214 and 351.221(c)(1)(i).

Christian Marsh,
DAS for AD/CVD Operations.

[FR Doc. 2016-26148 Filed 10-28-16; 8:45 am]

BILLING CODE 3510-DS-P